DEPARTMENT OF JUSTICE

Antitrust Division

Notice Pursuant to the National Cooperative Research and Production Act of 1993—Digital Entertainment Content Ecosystem (DECE) LLC

Notice is hereby given that, on August 25, 2008, pursuant to Section 6(a) of the National Cooperative Research and Production Act of 1993, 15 U.S.C. 4301 et seq. (“the Act”), Digital Entertainment Content Ecosystem (DECE) LLC (“DECE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Digital Entertainment Content Ecosystem (DECE) LLC, Culver City, CA. The nature and scope of DECE's standards development activities are: (1) To enable the delivery of digital entertainment content in a manner that allows for interoperability among digital formats and digital rights management systems; and (2) to develop specifications accordingly.

Patricia A. Brink,
Deputy Director of Operations, Antitrust Division.

[FR Doc. E8-22661 Filed 9-26-08; 8:45 am]

BILLING CODE 4410-11-M